DEPARTMENT OF AGRICULTURE

Submission for OMB Review; Comment Request

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Enhancing Completion Rates for Supplemental Nutrition Assistance Program (SNAP) Quality Control Reviews.

OMB Control Number: 0584-NEW.

Summary of Collection: Section 17 [7 U.S.C. 2026] (a)(1) of the Food and Nutrition Act of 2008 provides general legislative authority for the planned data collection. It authorizes the Secretary of the U.S. Department of Agriculture to enter into contracts with private institutions to undertake research that will help to improve the administration and effectiveness of the Supplemental Nutrition Assistance Program (SNAP) in delivering nutrition-related benefits. The SNAP Quality Control (QC) system requires States to conduct monthly quality control reviews of households participating in SNAP to assess the validity of SNAP cases, and, ultimately, the payment error rate for SNAP. The completion rate of sampled QC reviews has decreased nationally over the last few decades. In response to this overall decline and inter-State variation in SNAP QC completion rates, the current study seeks to identify the factors associated with incomplete QC reviews in active SNAP cases and to identify best practices related to completing SNAP QC reviews.

Need and Use of the Information: The Food and Nutrition Service will collect information through four instruments: a semi-structured interview protocol for QC directors and supervisors, a semi-structured interview protocol for QC reviewers, a survey instrument for QC directors and supervisors, and a survey instrument for QC reviewers. The purpose of this information collection is to identify the factors that consistently lead to incomplete cases among active SNAP QC case reviews and identify possible means to enhance completion rates. If the data is not collected, USDA will not have critical information for assessing the causes of incomplete QC reviews and improving the integrity of the QC process.

Description of Respondents: State, Local or Tribal Government; Federal Government.

Number of Respondents: 1,050.

Frequency of Responses: Reporting: On occasion; Other (1 time).

Total Burden Hours: 307.

Food and Nutrition Service

Title: WIC Nutrition Services and Administration (NSA) Costs Study.

OMB Control Number: 0584-NEW.

Summary of Collection: The Healthy, Hunger-Free Kid Act of 2010 (Pub. L. 111-296, Sec 305) mandates programs under its authorization to cooperate with U.S. Department of Agriculture (USDA) program research and evaluation activities. The mandate applies to Special Supplemental Nutrition Program for Women, Infants, and Children (WIC) agencies. The WIC Program regulations (7 CFR part 246) delegate administration of the WIC Program to the USDA's Food and Nutrition Service (FNS). The operational component of the WIC Program is funded through the nutrition services and administration (NSA) portion of State Agency grants; however, these NSA costs have not been examined since a Government Accountability Office (GA)) study conducted in 2000. To better understand the sources that contribute to the variation in NSA costs, FNS seeks to ensure that all States operate the WIC Program in an effective and efficient manner. The National WIC NSA cost Study will provide an updated assessment of the types and categories of costs charged to WIC NSA grants, and the factors that influence the variation in these costs among State and local agencies.

Need and Use of the Information: The purpose of the WIC NSA Cost Study is to provide FNS with an updated assessment of the amounts and categories of costs charged to WIC NSA grants and to increase the understanding of why there is such cost variation among State and local agencies. A better understanding of these areas will enable FNS to more efficiently and effectively administer the WIC Program. If the data is not collected it would negatively impact the ability of FNS to carry out its federal mandate of managing the WIC program in the most effective and efficient way possible.

Description of Respondents: State, Local or Tribal Government; Federal Government.

Number of Respondents: 6,236.

Frequency of Responses: Reporting: On occasion; Other (1 time).

Total Burden Hours: 2,580.

Charlene Parker,
Departmental Information Collection Clearance Officer.

[FR Doc. 2014-00207 Filed 1-9-14; 8:45 am]

BILLING CODE 3410-30-P